DEPARTMENT OF TRANSPORTATION

Federal Aviation Administration

14 CFR Part 71

[Docket No. FAA-2022-1027; Airspace Docket No. 21-AEA-33]

RIN 2120-AA66

Proposed Amendment and Revocation of VOR Federal Airways; Eastern United States

AGENCY: Federal Aviation Administration (FAA), DOT.

ACTION: Notice of proposed rulemaking (NPRM).

SUMMARY: This action proposes to amend five VHF Omnidirectional Range (VOR) Federal airways, and remove five VOR Federal airways. This action supports the FAA's VOR Minimum Operational Network (MON) program.

DATES: Comments must be received on or before October 13, 2022.

ADDRESSES: Send comments on this proposal to the U.S. Department of Transportation, Docket Operations, 1200 New Jersey Avenue SE, West Building Ground Floor, Room W12-140, Washington, DC 20590; telephone: (800) 647-5527 or (202) 366-9826. You must identify FAA Docket No. FAA-2022-1027; Airspace Docket No. 21-AEA-33 at the beginning of your comments. You may also submit comments through the internet at www.regulations.gov.

FAA Order JO 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the VOR Federal airway route structure in the eastern United States to maintain the efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-1027; Airspace Docket No. 21-AEA-33) and be submitted in triplicate to the Docket Management Facility (see ADDRESSES section for address and phone number). You may also submit comments through the internet at www.regulations.gov.

Commenters wishing the FAA to acknowledge receipt of their comments on this action must submit with those comments a self-addressed, stamped postcard on which the following statement is made: “Comments to FAA Docket No. FAA-2022-1027; Airspace Docket No. 21-AEA-33.” The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRM's

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA, 30337.

Availability and Summary of Documents for Incorporation by Reference

This document proposes to amend FAA Order JO 7400.11F, Airspace Designations and Reporting Points, dated August 10, 2021, and effective September 15, 2021. FAA Order JO 7400.11F is publicly available as listed in the ADDRESSES section of this proposed rule. FAA Order JO 7400.11F lists Class A, B, C, D, and E airspace areas, air traffic service routes, and reporting points.

The Proposal

The FAA is proposing an amendment to 14 CFR part 71 to amend five VOR Federal airways, and remove five VOR Federal airways. This action supports the FAA's VOR MON program.

V-46: V-46 extends from Deer Park, NY to Nantucket, MA. The FAA proposes to remove V-46 in its entirety to support the decommissioning of the Hampton, NY (HTO), VHF Omnidirectional Range and Tactical Air Navigational System (VORTAC) and the Norwich, CT (ORW). VHF Omnidirectional Range/Distance Measuring Equipment (VOR/DME). RNAV route T-705 would be extended as a partial overlay of the route.

V-91: V-91 extends from the intersection of the Calverton, NY 180° and the Hampton, NY 223° radials to Albany, NY. This action proposes to remove the entire route in support of the decommissioning of the Bridgeport, CT (BDR), VOR/DME, Carmel, NY (CMK), VOR/DME, and the Pawling, NY (PWL), VOR/DME. RNAV route T-463 is being published as a partial overlay.

V-123: V-123 extends from the intersection of the Washington, DC 065° and the Baltimore, MD 197° radials to Cambridge, NY. This action would remove the segments from the intersection of the above Washington and Baltimore radials to Woodstown, NJ. This would support the decommissioning of the Woodstown, NJ (OOD), VORTAC. As amended, V-123 would extend from Robbinsville, NJ to Cambridge, NY.

V-157: V-157 extends from Key West, FL, to Albany, NY. This action proposes to remove the segments from the intersection of the Richmond, VA 039° and the Patuxent, MD 238° radials, to Woodstown, NJ. As a result, V-157 would consist of two parts: From Key West, FL, to Richmond, VA; and From Robbinsville, NJ to Albany, NY. This would support the decommissioning of the Nottingham, MD (OTT), and the Patuxent, MD (PXT), VORTACs. With the remove of the above segments, the words excluding the airspace within R-4005, R-4006, and R-4007A are no longer required in the description. The exclusion of R-6602A is amended to read “R-6602A, B, and C when active.”

V-213: V-213 extends from Grand Strand, SC, to Albany, NY. This action proposes to remove segment that extends between the intersection of the Hopewell, VA 019° and the Brooke, VA 132° radials, and Patuxent River, MD. As a result, V-213 would consist of two parts: From Grand Strand, SC to Hopewell, VA; and from Smyrna, DE to Albany, NY.

V-270: V-270 extends, in two parts, From Erie, PA, to Jamestown, NY; and From Elmira, NY, to Boston, MA. The FAA proposes to remove the entire route as it is no longer used for air traffic purposes. This would support the decommissioning of the Elmira, NY (ULM), VOR/DME and the Delancey, NY (DNY), VOR/DME. RNAV route T-460 would provide a partial overlay.

V-273: V-273 extends from the intersection of the Huguenot, NY 134° and the Solberg, NJ 044° radials to Hancock, NY. This action proposes to remove the entire route in support of the decommissioning of the Hancock, NY (HNK), VOR/DME and the Huguenot, NY (HOU), VOR/DME. RNAV route T-391 will be extended as a partial overlay.

V-433: V-433 extends from Nottingham, MD, to Syracuse, NY. This action proposes to remove the segment from Nottingham, MD, to Bridgeport, CT, is support of the decommissioning of the Nottingham, MD (OTT), VORTAC; Patuxent, MD (PXT),VORTAC; and the Bridgeport, CT (BDR), VOR/DME. As amended, V-433 would extend from Bridgeport, CT to Syracuse, NY, as currently charted.

V-483: V-483 extends from Deer Park, NY, to Rochester, NY. This action would remove the segments from Deer Park, NY, to the intersection of the Rockdale, NY 325° and the Syracuse, NY 100° radials. This would support the decommissioning of the Delancy, NY (DNY), VOR/DME, Carmel, NY (CMK), VOR/DME, Pawling, NY (PWL), VOR/DME, and Hancock, NY (HNK), VOR/DME. As amended, V-483 would extend from Syracuse, NY, to Rochester, NY. RNAV route T-634 would be extended as a partial overlay.

V-499: V-499 extends from Baltimore, MD, to Binghamton, NY. The FAA proposes to remove the entire route. The airway is no longer used for air traffic purposes.

The full descriptions of the above routes are listed in the amendments to part 71 set forth below.

Domestic VOR Federal airways are published in paragraph 6010(a) of FAA Order JO 7400.11F, dated August 10, 2021, and effective September 15, 2021, which is incorporated by reference in 14 CFR 71.1. The VOR Federal airways listed in this document would be subsequently published in and removed from FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a) Domestic VOR Federal Airways.

* * * * *

V-46 [Removed]

* * * * *

V-91 [Removed]

* * * * *

V-123 [Amended]

From Robbinsville, NJ; INT Robbinsville 044° and LaGuardia, NY, 213° radials; LaGuardia; INT LaGuardia 032° and Carmel, NY, 157° radials; Carmel; INT Carmel 344° and Albany, NY, 181° radials; Albany; to Cambridge, NY.

* * * * *

V-157 [Amended]

From Key West, FL; INT Key West 038° and Dolphin, FL, 244° radials; Dolphin; INT Dolphin 331° and La Belle, FL, 113° radials; La Belle; Lakeland, FL; Ocala, FL; INT Ocala 346° and Taylor, FL, 170° radials; Taylor, FL; Waycross, GA; Alma, GA; Allendale, SC; Vance, SC; Florence, SC; Fayetteville, NC; Kinston, NC; Tar River, NC; Lawrenceville, VA; to Richmond, VA. From Robbinsville, NJ; INT Robbinsville 044° and LaGuardia, NY, 213° radials; LaGuardia; INT LaGuardia 032°and Deer Park, NY, 326° radials; INT Deer Park 326° and Kingston, NY, 191° radials; Kingston, NY; to Albany, NY. The airspace within R-6602A, B, and C is excluded when active.

* * * * *

V-213 [Amended]

From Grand Strand, SC, via Wilmington, NC; INT Wilmington 352° and Tar River, NC, 191° radials; Tar River; to Hopewell, VA; From Smyrna, DE; INT Smyrna 035° and Robbinsville, NJ, 228° radials; Robbinsville; INT Robbinsville 014° and Sparta, NJ, 174° radials; Sparta; to Albany, NY. The airspace within R-4005 and R-4006 is excluded.

* * * * *

V-270 [Removed]

* * * * *

V-273 [Removed]

* * * * *

V-433 [Amended]

From Bridgeport, CT; INT Bridgeport 324° and Pawling, NY, 160° radials; Pawling; INT Pawling 304° and Rockdale, NY, 116° radials; Rockdale; INT Rockdale 325° and Syracuse, NY, 100° radials; to Syracuse.

* * * * *

V-483 [Amended]

From Syracuse, NY; Rochester, NY; INT Syracuse 283° and Rochester 064° radials; Rochester.

* * * * *

V-499 [Removed]

* * * * *

Issued in Washington, DC, on August 23, 2022.
Scott M. Rosenbloom,
Manager, Airspace Rules and Regulations.

[FR Doc. 2022-18484 Filed 8-26-22; 8:45 am]

BILLING CODE 4910-13-P